DEPARTMENT OF THE INTERIOR

National Park Service

The Transportation Plan/Draft Environmental Impact Statement, Grand Teton National Park, WY

AGENCY: National Park Service, Department of the Interior.

ACTION: Notice of availability of the draft environmental impact statement for the Transportation Plan, Grand Teton National Park.

SUMMARY: Pursuant to the National Environmental Policy Act of 1969, 42 U.S.C. 4332(c), the National Park Service announces the availability of draft Environmental Impact Statement for the Transportation Plan, Grand Teton National Park, Wyoming.

DATES: The National Park Service will accept comments from the public on the Draft Environmental Impact Statement for 60 days after publication of this notice. No public meetings are scheduled at this time, but may be announced at a later date.

ADDRESSES: Information will be available for public review and comment at the Park Headquarters Visitor Center in Moose, Wyoming and the Reference Desk of the Teton County Library in Jackson, Wyoming. It will also be available online at both http://parkplanning.nps.gov and http://www.nps.gov/grte/plans/planning.htm.

FOR FURTHER INFORMATION CONTACT: Mary Gibson Scott, Superintendent, Grand Teton National Park, PO Drawer 170, Moose, Wyoming 83012-0170, (370) 739-3410.

SUPPLEMENTARY INFORMATION: If you wish to comment, you may submit your comments by any one of several methods. You may mail comments to Superintendent Office, P.O. Drawer 170, Moose, Wyoming 83012-0170, Attention: Transportation Plan. You may also comment via the e-mail to http://parkplanning.nps.gov, choose “Grand Teton National Park” or “Plan/Documents Open for Comment” and then click “Comment on Document”. Finally, you may hand-deliver comments to the Grand Teton Visitor Center, Moose, Wyoming. Our practice is to make comments, including names and home addresses of respondents, available for public review during business hours. Individual respondents may request that we withhold their home address from the record, which we will honor to the extent allowable law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: April 29, 2005.
Michael D. Snyder,
Acting Regional Director, Intermountain Region, National Park Service.

[FR Doc. 05-11143 Filed 6-3-05; 8:45 am]

BILLING CODE 4312-CX-P